DEPARTMENT OF HEALTH AND HUMAN SERVICES

Centers for Disease Control and Prevention

[30Day-20-19BIW]

Agency Forms Undergoing Paperwork Reduction Act Review

In accordance with the Paperwork Reduction Act of 1995, the Centers for Disease Control and Prevention (CDC) has submitted the information collection request titled Evaluation of the DP18-1801 Healthy Schools Program to the Office of Management and Budget (OMB) for review and approval. CDC previously published a “Proposed Data Collection Submitted for Public Comment and Recommendations” notice on July 25, 2019 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Evaluation of the DP18-1801 Healthy Schools Program—New—National Center for Chronic Disease Prevention and Health Promotion (NCCDPHP), Centers for Disease Control and Prevention (CDC).

Background and Brief Description

The Centers for Disease Control and Prevention's (CDC) School Health Branch (SHB) requests a three-year OMB approval to conduct a new information collection entitled Evaluation of the DP18-1801 Healthy Schools Program. The DP18-1801 Healthy Schools Program builds upon previous CDC efforts designed to enhance the capacity of state education agencies (SEAs) to adopt and implement evidence-based policies, practices, and programs that support health among the nation's youth. The purpose of the DP18-1801 Healthy Schools Program is to: (1) Increase the number of students who consume nutritious food and beverages (i.e., those aligned with the Dietary Guidelines for Americans); (2) increase the number of students who participate in daily physical education and physical activity; and (3) increase the number of students who can effectively manage their chronic health conditions. The evaluation approach is a multisite, embedded case study design, consisting of both process and outcome components, focusing on three 1801 state grantees and a subset of their targeted LEAs and schools. The process component will assess implementation of strategies and activities at the state, local, and school levels and their integration across levels; fidelity of implementation; implementation facilitators and barriers; and contributions of national and state level TA towards program achievements. Three primary data collection methods will be used: (1) Key informant interviews (KII) conducted during in-person site visits or by phone, (2) Web-based surveys, and (3) review of secondary data sources. CDC is requesting approval for an estimated 265 annual burden hours.

Estimated Annualized Burden Hours
Type of respondents | Form name | Number of respondents | Number of responses per respondent | Average burden per response (in hours)
SEA staff | Web-Survey | 3 | 1 | 75/60
| Key-Informant Interview | 9 | 1 | 75/60
LEA staff | Web-Survey | 30 | 1 | 75/60
| Key-Informant Interview | 12 | 1 | 75/60
School staff | Web-Survey | 210 | 1 | 75/60
| Key-Informant Interview | 54 | 1 | 75/60

Jeffrey M. Zirger,
Lead, Information Collection Review Office, Office of Scientific Integrity, Office of Science, Centers for Disease Control and Prevention.

[FR Doc. 2019-24728 Filed 11-14-19; 8:45 am]

BILLING CODE 4163-18-P